ENVIRONMENTAL PROTECTION AGENCY

[FRL-9948-74-Region 5]

Public Meeting of the Great Lakes Advisory Board and Science and Information Subcommittee

AGENCY: Environmental Protection Agency (EPA).

ACTION: Notice.

SUMMARY: The Environmental Protection Agency (EPA) announces a public meeting of the Great Lakes Advisory Board (Board) and its Science and Information Subcommittee (SIS). The purpose of this meeting is to discuss the Great Lakes Restoration Initiative (GLRI) covering FY15-19 and other relevant matters.

DATES: The meeting will be held on Thursday, July 21, 2016 from 8:30 a.m. to 12:30 p.m. Central Time, 9:30 a.m. to 1:30 p.m. Eastern Time. An opportunity will be provided to the public to comment.

ADDRESSES: The meeting will be held at the Blue Harbor Resort, Salons E and F, 725 Blue Harbor Dr., Sheboygan, Wisconsin. For those unable to attend in person, this meeting will also be available telephonically. The teleconference number is 877-226-9607 and the teleconference code is 421 858 2837.

FOR FURTHER INFORMATION CONTACT: Any member of the public wishing further information regarding this meeting may contact Rita Cestaric, Designated Federal Officer (DFO), by email at Cestaric.Rita@epa.gov. General information about the Board and the SIS can be found at http://glri.us/advisory/index.html.

SUPPLEMENTARY INFORMATION:

Background: The Board is a federal advisory committee chartered under the Federal Advisory Committee Act (FACA), Public Law 92-463. EPA established the Board in 2013 to provide independent advice to the EPA Administrator in her capacity as Chair of the federal Great Lakes Interagency Task Force (IATF). The SIS was established as a subcommittee to the Board to assist the Board by providing technical advice. The Board and SIS comply with the provisions of FACA.

Availability of Meeting Materials: The agenda and other materials in support of the meeting will be available at http://glri.us/advisory/index.html.

Procedures for Providing Public Input: Federal advisory committees provide independent advice to federal agencies. Members of the public can submit relevant comments for consideration by the Board and the SIS. Input from the public to the committees will have the most impact if it provides specific information for consideration. Members of the public wishing to provide comments should contact the DFO directly.

Oral Statements: In general, individuals or groups requesting an oral presentation at this public meeting will be limited to three minutes per speaker, subject to the number of people wanting to comment. Interested parties should contact the DFO in writing (preferably via email) at the contact information noted above by July 18, 2016 to be placed on the list of public speakers for the meeting.

Written Statements: Written statements must be received by July 14, 2016 so that the information may be made available to the committees for consideration. Written statements should be supplied to the DFO in the following formats: One hard copy with original signature and one electronic copy via email. Commenters are requested to provide two versions of each document submitted: one each with and without signatures because only documents without signatures may be published on the GLRI Web page.

Accessibility: For information on access or services for individuals with disabilities, please contact the DFO at the phone number or email address noted above, preferably at least seven days prior to the meeting, to give EPA as much time as possible to process your request.

Dated: June 27, 2016.
Cameron Davis, Sr.,
Advisor to the Administrator.

[FR Doc. 2016-16020 Filed 7-5-16; 8:45 am]

BILLING CODE 6560-50-P